DEPARTMENT OF VETERANS AFFAIRS

38 CFR Parts 14 and 36

[Docket No. VA-2024-VACO-0023]

RIN 2900-AS05

Legal Services, General Counsel, and Miscellaneous Claims

AGENCY: Department of Veterans Affairs.

ACTION: Proposed rule; withdrawal.

SUMMARY: The Department of Veterans Affairs (VA) is withdrawing the proposed rule published in the Federal Register on November 7, 2024 (89 FR 88192) and proposed amendments to its regulations governing Legal Services, the Office of General Counsel, and Miscellaneous Claims. VA is withdrawing this proposed rule because of ongoing assessments of agency needs, priorities, and objectives.

DATES: The proposed rule published at 89 FR 88192 on November 7, 2024, is withdrawn as of January 27, 2026.

ADDRESSES: The docket for this action is available at www.regulations.gov/docket/VA-2024-VACO-0023.

FOR FURTHER INFORMATION CONTACT: Sharon Weiner, Acting Executive Director, Management, Planning, and Analysis, Office of General Counsel, (202) 461-4995.

SUPPLEMENTARY INFORMATION: In a document published in the Federal Register on November 7, 2024, VA proposed amendments to its regulations in 38 CFR part 14 to reflect nomenclature changes regarding employees and groups within the Office of General Counsel and to make other changes intended to further clarify and explain various functions and procedures within the Office of General Counsel. VA also proposed to remove § 36.4321 as a result of proposed revisions to § 14.515(e). VA anticipated incorporating comments into a final rulemaking which would amend its legal services regulations.

VA is withdrawing the proposed rule because of ongoing assessments of agency needs, priorities, and objectives. VA appreciates the public comments submitted and continues to consider the best means of addressing some or all of the issues covered in the proposed rule. If, in the future, VA decides it is appropriate to issue regulations on this topic, VA will do so through a new notice of proposed rulemaking, subject to the requirements of the Administrative Procedure Act, 5 U.S.C. 551, et seq.

Signing Authority

Douglas A. Collins, Secretary of Veterans Affairs, approved this document on January 22, 2026 and authorized the undersigned to sign and submit the document to the Office of the Federal Register for publication electronically as an official document of the Department of Veterans Affairs.

Nicole R. Cherry,
Alternate Federal Register Liaison Officer, Department of Veterans Affairs.

[FR Doc. 2026-01608 Filed 1-26-26; 8:45 am]

BILLING CODE 8320-01-P